DEPARTMENT OF TRANSPORTATION

Federal Transit Administration

[FTA Docket No. FTA-2008-0018]

Agency Information Collection Activity Under OMB Review

AGENCY: Federal Transit Administration, DOT.

ACTION: Notice of Request for Comments.

SUMMARY: The Federal Transit Administration invites public comment about our intention to request the Office of Management and Budget's (OMB) approval of the following new information collection: Executive Order 12862, “Setting Customer Service Standards,” requires FTA to identify its customers and determine what they think about FTA's service. The surveys covered in this request will provide FTA with a means to gather data directly from its customers. The information obtained from the surveys will be used to assess how FTA's services are perceived by customers and stakeholders, determine opportunities for improvement and ensure FTA's customers receive the highest level of customer support. The surveys will be limited to data collections that solicit voluntary opinions and will not involve information that is required by regulations. The Federal Register Notice with a 60-day comment period soliciting comments was published on December 26, 2007.

DATES: Comments must be submitted before April 14, 2008. A comment to OMB is most effective if OMB receives it within 30 days of publication.

FOR FURTHER INFORMATION CONTACT: LaStar Matthews, Office of Administration, Office of Management Planning, (202) 366-2295.

SUPPLEMENTARY INFORMATION: Title: Customer Service Surveys of FTA Grantees and Stakeholders (OMB Number 2132-New).

Abstract: Executive Order 12862, “Setting Customer Service Standards,” requires FTA to identify its customers and determine what they think about FTA's service. The surveys covered in this request will provide FTA with a means to gather data directly from its customers. The information obtained from the surveys will be used to assess how FTA's services are perceived by customers and stakeholders, determine opportunities for improvement and establish goals to measure results. The surveys will be limited to data collections that solicit voluntary opinions and will not involve information that is required by regulations.

Estimated Total Annual Burden: 205 hours

ADDRESSES: All written comments must refer to the docket number that appears at the top of this document and be submitted to the Office of Information and Regulatory Affairs, Office of Management and Budget, 725-17th Street, NW., Washington, DC 20503, Attention: FTA Desk Officer.

Comments are Invited On: Whether the proposed collection of information is necessary for the proper performance of the functions of the Department, including whether the information will have practical utility; the accuracy of the Department's estimate of the burden of the proposed information collection; ways to enhance the quality, utility, and clarity of the information to be collected; and ways to minimize the burden of the collection of information on respondents, including the use of automated collection techniques or other forms of information technology.

Issued: March 10, 2008.
Ann Linnertz,
Associate Administrator for Administration.

[FR Doc. E8-5124 Filed 3-13-08; 8:45 am]

BILLING CODE 4910-57-P